ENVIRONMENTAL PROTECTION AGENCY

[FRL-7137-5]

Proposed Settlement Agreement, Clean Air Act Petition for Review

AGENCY: Environmental Protection Agency (EPA).

ACTION: Notice of proposed settlement agreement providing for rulemaking to amend regulations issued pursuant to section 112(d) of the Clean Air Act.

SUMMARY: EPA hereby gives notice of a proposed settlement agreement in the cases entitled American Crop Prot. Ass'n v. EPA, No. 99-1332 and BASF Corp. v. EPA, No 99-1334 (D.C. Cir.). EPA issues this notice in accordance with section 113(g) of the Clean Air Act (the “Act”), 42 U.S.C. 7413(g),which requires EPA to give notice and provide an opportunity for public comment on proposed settlement agreements.

The litigation challenges EPA's promulgation of the final rule entitled National Emissions Standards for Hazardous Air Pollutants: Pesticide Active Ingredient Production (“PAI NESHAP” or the “rule”). 64 FR 33550 (June 23, 1999). Petitioners the American Crop Protection Association and BASF Corp. filed petitions for review of the rule under section 307(b) of the Act, 42 U.S.C. 7607(b).

The proposed Settlement Agreement provides that EPA will undertake a rulemaking to amend the PAI NESHAP. Among the rulemaking commitments, the Settlement Agreement calls for EPA to clarify applicability of the rule to “reconstructed” sources, make technical corrections to performance testing requirements, and amend standards and applicability provisions related to wastewater units and storage tanks covered by the rule. A copy of the proposed Settlement Agreement is available from Phyllis Cochran, Air and Radiation Law Office (2344A), Office of General Counsel, U.S. Environmental Protection Agency, Ariel Rios Building, 1200 Pennsylvania Avenue, NW., Washington, DC 20460, (202) 564-5566.

For a period of thirty (30) days following the date of publication of this notice, EPA will accept written comments regarding the proposed Settlement Agreement from persons who are not named as parties or intervenors to this litigation. Written comments should be sent to Paul R. Cort, at the above address and must be submitted on or before March 6, 2002.

EPA or the Department of Justice may withhold or withdraw consent to the proposed Settlement Agreement if the comments disclose facts or circumstances that indicate the agreement is inappropriate, improper, inadequate, or inconsistent with the requirements of the Act. Unless EPA or the Department of Justice makes such a determination following the comment period, EPA will take the actions set forth in the Settlement Agreement.

Dated: January 29, 2002.
Alan W. Eckert,
Associate General Counsel, Air and Radiation Law Office.

[FR Doc. 02-2609 Filed 2-1-02; 8:45 am]

BILLING CODE 6560-50-P